DEPARTMENT OF HOMELAND SECURITY

Coast Guard

33 CFR Part 165

[Docket No. USCG-2012-1036]

Safety Zone Regulations; Recurring Marine Event in the Long Island Sound Captain of the Port Zone

AGENCY: Coast Guard, DHS.

ACTION: Notice of enforcement of regulation.

SUMMARY: The Coast Guard will enforce two safety zones in the Sector Long Island Sound area of responsibility on the dates and times listed in the table below. This action is necessary to provide for the safety of life on navigable waterways during the event. During the enforcement period, no person or vessel may enter the safety zone without permission of the Captain of the Port (COTP) Sector Long Island Sound or designated representative.

DATES: The Coast Guard will enforce the regulations in 33 CFR 165.151 Table 1 for the Lawrence Beach Club Fireworks on September 6, 2020, from 8:30 p.m. to 10:30 p.m.

FOR FURTHER INFORMATION CONTACT: If you have questions on this notice, call or email Petty Officer Chris Gibson, Waterways Management Division, U.S. Coast Guard Sector Long Island Sound; telephone 203-468-4565, email Chris.A.Gibson@uscg.mil.

SUPPLEMENTARY INFORMATION: The Coast Guard will enforce the safety zones listed in 33 CFR 165.151 Table 1 for the Lawrence Beach Club fireworks and the Town of Babylon fireworks.

Under the provisions of 33 CFR 165.151, these events listed are established as a safety zone. During the enforcement period, persons and vessels are prohibited from entering into, transiting through, mooring, or anchoring within the safety zones unless they receive permission from the COTP or designated representative.

The Coast Guard will enforce the safety zones for item 7.5 in Table 1 in § 165.151 for the Lawrence Beach Club Fireworks on September 6, 2020, with a rain date of September 7. The safety zone is in effect from 8:30 p.m. to 10:30 p.m. for the waters of the Atlantic Ocean off Lawrence Beach Club, Atlantic Beach, NY in approximate position, 40°34′42.65″ N, 073°42′56.02″ W (NAD 83).

On August 5, the Coast Guard will enforce a safety zone for the Town of Babylon Annual Fireworks from 8:30 p.m. to 10:30 p.m. The safety zone is for the waters off Cedar Beach Town Park, Babylon, NY in approximate position, 40°37′53″ N, 073°20′12″ W (NAD 83). The rain date for the event is August 6.

This notice is issued under authority of 33 CFR 165 and 5 U.S.C. 552 (a). In addition to this notice in the Federal Register, the Coast Guard will provide the maritime community with advance notification of this enforcement period via the Local Notice to Mariners or marine information broadcasts. If the COTP determines that either safety zone need not be enforced for the full duration stated in this notice, a Broadcast Notice to Mariners may be used to grant general permission to enter the regulated area.

Dated: July 24, 2020
E.J. Van Camp,
Captain, U.S. Coast Guard, Captain of the Port Long Island Sound.

[FR Doc. 2020-16524 Filed 8-7-20; 8:45 am]

BILLING CODE 9110-04-P